ENVIRONMENTAL PROTECTION AGENCY

[EPA-HQ-OPP-2017-0628; FRL-10016-60-OMS]

Agency Information Collection Activities; Renewal Request Submitted to OMB for Review and Approval; Comment Request; Experimental Use Permits (EUPs) for Pesticides (Renewal)

AGENCY: Environmental Protection Agency (EPA).

ACTION: Notice.

SUMMARY: The Environmental Protection Agency (EPA) has submitted an information collection request (ICR), Experimental Use Permits (EUPs) for Pesticides (EPA ICR Number 0276.17 and OMB Control Number 2070-0040), to the Office of Management and Budget (OMB) for review and approval in accordance with the Paperwork Reduction Act. This is a proposed extension of an existing ICR, which is currently approved through February 28, 2021. Public comments were previously requested via the Federal Register on August 17, 2020. A fuller description of the ICR is given below, including its estimated burden and cost to the public. An agency may not conduct or sponsor and a person is not required to respond to a collection of information unless it displays a current valid OMB control number.

DATES: Comments must be received on or before February 10, 2021.

ADDRESSES: Submit your comments to EPA, referencing docket identification (ID) number EPA-HQ-OPP-2017-0628, online using http://www.regulations.gov. EPA's policy is that all comments received will be included in the docket without change, including any personal information provided, unless the comment includes profanity, threats, information claimed to be Confidential Business Information (CBI), or other information whose disclosure is restricted by statute. Do not submit electronically any information you consider to be CBI or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division (7101M), Office of Program Support, Environmental Protection Agency, 1200 Pennsylvania Ave. NW, Washington, DC 20460-0001; telephone number: (703) 347-0159; email address: siu.carolyn@epa.gov.

SUPPLEMENTARY INFORMATION: Supporting documents, which explain in detail the information EPA will be collecting, are available in the public docket for this ICR. The docket can be viewed online at http://www.regulations.gov or in person at the EPA Docket Center, West William Jefferson Clinton Bldg., Rm. 3334, 1301 Constitution Ave. NW, Washington, DC. The telephone number for the Docket Center is (202) 566-1744. Please note that due to the public health concerns related to COVID-19, the EPA Docket Center (EPA/DC) and Reading Room is closed to visitors with limited exceptions. The staff continues to provide remote customer service via email, phone, and webform. For the latest status information on EPA/DC services and docket access, visit https://www.epa.gov/dockets.

Abstract: The information collection provides EPA with the data necessary to determine whether to issue an EUP under section 5 of the Federal Insecticide, Fungicide, and Rodenticide Act (FIFRA). FIFRA requires that before a pesticide product may be distributed or sold in the U.S., it must be registered by EPA. However, FIFRA section 5 authorizes EPA to issue an EUP to allow pesticide companies to temporarily ship pesticide products for experimental use for the purpose of gathering data necessary to support the application for registration of a pesticide product. In general, EUPs are issued either for a pesticide not registered with the Agency or for a new use of a registered pesticide.

Form Number: 8570-17.

Respondents/Affected entities: Pesticide and other Agricultural Chemical Manufacturing.

Respondent's obligation to respond: Mandatory under FIFRA section 5.

Estimated number of respondents: 31.

Frequency of response: On occasion.

Estimated total burden: 567 hours.

Estimated total costs: $37,497. This includes an estimated cost of $0 for non-burden hour paperwork costs, e.g., investment or maintenance and operational costs.

Changes in the estimates from the last approval: There are no changes in the estimates.

Dated: December 11, 2020.
Courtney Kerwin,
Director, Regulatory Support Division.

[FR Doc. 2021-00248 Filed 1-8-21; 8:45 am]

BILLING CODE 6560-50-P